DEPARTMENT OF DEFENSE

Department of the Air Force

Proposed Rocket Cargo Vanguard Program at Johnston Atoll

AGENCY: Department of the Air Force, Department of Defense.

ACTION: Abeyance of environmental assessment preparation.

SUMMARY: The Department of the Air Force (DAF) has elected to hold in abeyance the Rocket Cargo Vanguard Program (“Program”) Environmental Assessment (EA) proposed for Johnston Atoll.

ADDRESSES: Ms. Laura Yates (SAF/IEIP), 1665 Air Force Pentagon, Washington, DC 20330-1665.

FOR FURTHER INFORMATION CONTACT: Ms. Laura Yates (SAF/IEIP), (703) 692-1484; laura.yates.1@us.af.mil.

SUPPLEMENTARY INFORMATION: The DAF was preparing an EA for Johnston Atoll to support testing, demonstration, and evaluation of capabilities under the Program to include the construction and operation of no more than two landing pads and up to 10 reentry vehicle landings per year over four consecutive years. During the period of abeyance, the Air Force Research Laboratory will consider whether there are available options for conducting the demonstration at a location other than Johnston Atoll. The DAF will continue to ensure full compliance with the National Environmental Policy Act and other applicable laws on this activity.

Tommy W. Lee,
Acting Air Force Federal Register Liaison Officer.

[FR Doc. 2025-12708 Filed 7-8-25; 8:45 am]

BILLING CODE 3911-44-P